COMMITTEE FOR PURCHASE FROM PEOPLE WHO ARE BLIND OR SEVERELY DISABLED

Procurement List; Addition and Deletions

AGENCY: Committee for Purchase from People Who Are Blind or Severely Disabled.

ACTION: Addition to and deletions from Procurement List.

SUMMARY: This action adds to the Procurement List a service to be furnished by nonprofit agencies employing persons who are blind or have other severe disabilities, and deletes from the Procurement List services previously furnished by such agencies.

EFFECTIVE DATE: April 24, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION:

Addition

On January 7, 2005, the Committee for Purchase From People Who Are Blind or Severely Disabled published notice (70 FR 1413) of proposed additions to the Procurement List. After consideration of the material presented to it concerning capability of qualified nonprofit agencies to provide the services and impact of the additions on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Base Supply Center & Individual Equipment Element

(The sale of Furniture and Furniture related items at this BSC is prohibited.)

Hill Air Force Base, Utah.

NPA: Industries for the Blind, Inc., Milwaukee, Wisconsin.

Contracting Activity: Hill Air Force Base, Utah.

Deletions

On January 28, 2005, the Committee for Purchase From People Who Are Blind or Severely Disabled published notice (70 F.R. 4090) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Commissary Shelf Stocking & Custodial,

Fort Bragg and Malonee Village, Fayetteville, North Carolina.

NPA: None Currently Authorized.

Contracting Activity: Defense Commissary Agency, Fort Lee, Virginia.

Service Type/Location: Food Service.

Pueblo Chemical Depot, Pueblo, Colorado.

NPA: Pueblo Diversified Industries, Inc., Pueblo, Colorado.

Contracting Activity: U.S. Army, Rocky Mountain Arsenal, Commerce City, Colorado.

Service Type/Location: Janitorial/Custodial.

U.S. Federal Building and Courthouse, Fresno, California.

NPA: None currently authorized.

Contracting Activity: GSA, Public Buildings Service.

Patrick Rowe,
Deputy Executive Director.

[FR Doc. 05-5960 Filed 3-24-05; 8:45 am]

BILLING CODE 6353-01-P